DEPARTMENT OF ENERGY

Federal Energy Regulatory Commission

Combined Notice of Filings #1

Take notice that the Commission received the following electric corporate filings:

Docket Numbers: EC15-194-000.

Applicants: Aesir Power, LLC.

Description: Application of Aesir Power, LLC for Authorization Under Section 203 of the Federal Power Act, Request for Expedited Consideration, and Request for Confidential Treatment.

Filed Date: 8/25/15.

Accession Number: 20150825-5206.

Comments Due: 5 p.m. ET 9/15/15.

Take notice that the Commission received the following electric rate filings:

Docket Numbers: ER10-2331-034; ER14-630-011; ER10-2319-026; ER10-2317-026; ER10-2326-032; ER14-1468-010; ER13-1351-008; ER10-2330-033.

Applicants: J.P. Morgan Ventures Energy Corporation, AlphaGen Power LLC, BE Alabama LLC, BE CA LLC, Cedar Brakes I, L.L.C. KMC Thermo, LLC, Florida Power Development LLC, Utility Contract Funding, L.L.C.

Description: Non-Material Change in Status of the J.P. Morgan Sellers.

Filed Date: 8/25/15.

Accession Number: 20150825-5203.

Comments Due: 5 p.m. ET 9/15/15.

Docket Numbers: ER11-1933-005.

Applicants: Green Mountain Power Corporation.

Description: Supplement to March 17, 2015 Non-Material Change-in-Status Report of Green Mountain Power Corporation.

Filed Date: 8/25/15.

Accession Number: 20150825-5201.

Comments Due: 5 p.m. ET 9/15/15.

Docket Numbers: ER15-2525-000.

Applicants: The Dayton Power and Light Company.

Description: Section 205(d) Rate Filing: FERC Rate Schedule No. 307, Local Delivery Service Agreement with Buckeye to be effective 8/25/2015.

Filed Date: 8/26/15.

Accession Number: 20150826-5063.

Comments Due: 5 p.m. ET 9/16/15.

Docket Numbers: ER15-2526-000.

Applicants: Kentucky Utilities Company.

Description: Section 205(d) Rate Filing: Revised KU Muni Contracts for CR7 Depreciation Rates to be effective 6/19/2015.

Filed Date: 8/26/15.

Accession Number: 20150826-5125.

Comments Due: 5 p.m. ET 9/16/15.

Docket Numbers: ER15-2527-000.

Applicants: Oasis Power, LLC.

Description: Baseline eTariff Filing: Application for MBR to be effective 8/27/2015.

Filed Date: 8/26/15.

Accession Number: 20150826-5127.

Comments Due: 5 p.m. ET 9/16/15.

Docket Numbers: ER15-2528-000.

Applicants: Spark Energy, L.P.

Description: Section 205(d) Rate Filing: Notice of Succession to be effective 8/27/2015.

Filed Date: 8/26/15.

Accession Number: 20150826-5128.

Comments Due: 5 p.m. ET 9/16/15.

Docket Numbers: ER15-2529-000.

Applicants: Censtar Energy Corp.

Description: Compliance filing: Application for MBR to be effective 8/27/2015.

Filed Date: 8/26/15.

Accession Number: 20150826-5129.

Comments Due: 5 p.m. ET 9/16/15.

Docket Numbers: ER15-2530-000.

Applicants: Censtar Operating Company, LLC.

Description: Baseline eTariff Filing: Application for MBR to be effective 8/27/2015.

Filed Date: 8/26/15.

Accession Number: 20150826-5130.

Comments Due: 5 p.m. ET 9/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2015.
Nathaniel J. Davis, Sr.,
Deputy Secretary.

[FR Doc. 2015-21749 Filed 9-1-15; 8:45 am]

BILLING CODE 6717-01-P